DEPARTMENT OF VETERANS AFFAIRS

38 CFR Part 17

RIN 2900-AO86

VA Dental Insurance Program—Federalism

AGENCY: Department of Veterans Affairs.

ACTION: Withdrawal of proposed rule.

SUMMARY: The Department of Veterans Affairs (VA) is withdrawing VA's proposed rule, published in the Federal Register on October 23, 2013, to amend its regulations related to the VA Dental Insurance Program (VADIP), a pilot program to offer premium-based dental insurance to enrolled veterans and certain survivors and dependents of veterans. Specifically, this rule would have added language to clarify the limited preemptive effect of certain criteria in the VADIP regulations. VA received no comments concerning the proposed rule or its companion substantially identical direct final rule published on October 22, 2013, in the Federal Register. In a companion document in this issue of the Federal Register, we are confirming that the direct final rule became effective on December 23, 2013. Accordingly, this document withdraws as unnecessary the proposed rule.

DATES: The proposed rule published on October 23, 2013, 78 FR 63143, is withdrawn as of March 20, 2014.

FOR FURTHER INFORMATION CONTACT: Kristin J. Cunningham, Director, Business Policy, Chief Business Office (10NB), Veterans Health Administration, Department of Veterans Affairs, 810 Vermont Ave. NW., Washington, DC 20420; (202) 461-1599. (This is not a toll-free number.)

SUPPLEMENTARY INFORMATION: In a proposed rule published in the Federal Register on October 23, 2013, 78 FR 63143, VA proposed to amend 38 CFR 17.169 to add language to clarify the limited preemptive effect of certain criteria in the VA Dental Insurance Program (VADIP), a pilot program to offer premium-based dental insurance to enrolled veterans and certain survivors and dependents of veterans. VA published a companion substantially identical direct final rule at 78 FR 62441 on October 22, 2013. The direct final rule and proposed rule each provided a 30-day comment period that ended on November 21 and November 22, 2013, respectively. No comments were received.

Because no comments were received within the comment period, VA is withdrawing the proposed rule as unnecessary. In a companion document in this issue of the Federal Register, VA is confirming the effective date of the direct final rule, RIN 2900-AO85, published at 78 FR 62441.

Signing Authority

The Secretary of Veterans Affairs, or designee, approved this document and authorized the undersigned to sign and submit the document to the Office of the Federal Register for publication electronically as an official document of the Department of Veterans Affairs. Jose D. Riojas, Chief of Staff, Department of Veterans Affairs, approved this document on March 11, 2014, for publication.

Dated: March 13, 2014.
William F. Russo,
Deputy Director, Office of Regulation Policy and Management, Office of the General Counsel, Department of Veterans Affairs.

[FR Doc. 2014-05912 Filed 3-19-14; 8:45 am]

BILLING CODE 8320-01-P